DEPARTMENT OF TRANSPORTATION

Surface Transportation Board

[Docket No. FD 35391]

Gardendale Railroad, Inc.—Operation Exemption—Rail Line of Border Transload & Transfer, Inc. at Gardendale, LaSalle County, TX

Gardendale Railroad, Inc. (GRI), a noncarrier, has filed a verified notice of exemption under 49 CFR 1150.31 to operate a 1.86-mile line of railroad extending between milepost 107.0 and milepost 105.14 at or near Gardendale in LaSalle County, Tex. The line is owned by Crystal City Railroad, Inc. (CCR) and is currently being operated by Border Transload & Transfer, Inc. (BTT) (formerly known as Texas Railroad Switching, Inc. (TRS)).¹

¹ In 1990, CCR received an exemption to acquire a 53.41-mile line of railroad and TRS received an exemption to lease and operate the line. See Crystal City R.R.—Acquisition and Operation Exemption—R.R. Switching Service of Missouri, Texas R.R. Switching—Lease and Operation Exemption—Crystal City R.R., FD 31757 (served Nov. 15, 1990). In 1995, CCR was authorized to abandon, and TSR was authorized to discontinue service over, the line with the exception of a 1.86-mile portion. See Crystal City R.R.—Aban. Exemption—in LaSalle, Zavala, and Dimmit Counties, Tex., AB 427X (served June 9, 1995), Texas R.R. Switching, Inc.—Discontinuance of Service Exemption—in LaSalle, Zavala, and Dimmit Counties, Tex., Docket No. AB 428X (served June 9, 1995).

This transaction is related to a concurrently filed verified notice of exemption in Docket No. FD 35392, Gregory B. Cundiff, Connie Cundiff, CGX, Inc. and Ironhorse Resources, Inc.—Continuance in Control Exemption—Gardendale Railroad, Inc. In that proceeding, Gregory B. Cundiff, Connie Cundiff, CGX, Inc., and Ironhorse Resources, Inc., jointly have filed a verified notice of exemption to continue in control of GRI upon its becoming a Class III rail carrier.

The transaction will be consummated no sooner than August 13, 2010, the effective date of the exemption (30 days after the exemption was filed).

GRI certifies that its projected annual revenues as a result of the transaction will not exceed those that would qualify it as a Class III rail carrier.

If the verified notice contains false or misleading information, the exemption is void ab initio. Petitions to revoke the exemption under 49 U.S.C. 10502(d) may be filed at any time. The filing of a petition to revoke will not automatically stay the effectiveness of the exemption. Stay petitions must be filed by August 6, 2010 (at least 7 days before the exemption becomes effective).

An original and 10 copies of all pleadings, referring to Docket No. FD 35391, must be filed with the Surface Transportation Board, 395 E Street, SW., Washington, DC 20423-0001. In addition, a copy of each pleading must be served on Thomas F. McFarland, Thomas F. McFarland, P.C., 208 South LaSalle Street, Suite 1890, Chicago, Ill. 60604.

Board decisions and notices are available on our Web site at http://www.stb.dot.gov.

Decided: July 23, 2010.
By the Board, Joseph H. Dettmar, Acting Director, Office of Proceedings.
Kulunie L. Cannon,
Clearance Clerk.

[FR Doc. 2010-18621 Filed 7-29-10; 8:45 am]

BILLING CODE 4915-01-P